DEPARTMENT OF COMMERCE

International Trade Administration

[(A-351-603)(C-351-604)(A-122-601)(A-427-602)(C-427-603)(A-475-601)(A-428-602)(A-588-704)]

Continuation of Antidumping Duty Orders and Countervailing Duty Orders: Brass Sheet and Strip From Brazil, Canada, France, Italy, Germany, and Japan

AGENCY: Import Administration, International Trade Administration, Department of Commerce.

ACTION: Notice of continuation of antidumping duty orders and countervailing duty orders: Brass sheet and strip from Brazil, Canada, France, Italy, Germany, and Japan.

SUMMARY: On September 3, 1999 (with respect to Brazil, France, and Italy), on September 14, 1999 (with respect to Germany and Japan), and on November 11, 1999 (with respect to Canada), the Department of Commerce (“the Department”), pursuant to sections 751(c) and 752 of the Tariff Act of 1930, as amended (“the Act”), determined that revocation of the antidumping duty orders on brass sheet and strip from Brazil, France, Italy, Germany, Japan, and Canada, and the countervailing duty orders on brass sheet and strip from Brazil and France, would be likely to lead to continuation or recurrence of dumping or a countervailable subsidy (64 FR 48351, 48351, 48348, 49767, 49765, 66165, 48367, 48369, respectively). On April 18, 2000, the International Trade Commission (“the Commission”), pursuant to section 751(c) of the Act, determined that revocation of these antidumping and countervailing duty orders on brass sheet and strip would be likely to lead to continuation or recurrence of material injury to an industry in the United States within a reasonably foreseeable time (65 FR 5369). Therefore, pursuant to 19 CFR 351.218(f)(4), the Department is publishing notice of the continuation of antidumping duty orders on brass sheet and strip from Brazil, France, Italy, Germany, Japan, and Canada, and the countervailing duty orders on brass sheet and strip from Brazil and France.

EFFECTIVE DATE: May 1, 2000.

For Further Information Contact: Eun W. Cho or Carole Showers, Office of Policy for Import Administration, International Trade Administration, U.S. Department of Commerce, 14th Street and Constitution Ave., NW, Washington, DC 20230; telephone: (202) 482-1698 or (202) 482-3217, respectively.

SUPPLEMENTARY INFORMATION:

Background

On February 1, 1999, the Department initiated, and the Commission instituted, sunset reviews (64 FR 4840 and 64 FR 4892, respectively) of the antidumping duty orders on brass sheet and strip from Brazil, France, Italy, Germany, Japan, and Canada, and the countervailing duty orders on brass sheet and strip from Brazil and France, pursuant to section 751(c) of the Act. As a result of its reviews, the Department found that revocation of the antidumping duty orders would likely lead to continuation or recurrence of dumping and notified the Commission of the magnitude of the margins likely to prevail were the orders to be revoked.¹ In addition, the Department determined that revocation of the countervailing duty orders would likely lead to continuation or recurrence of countervailable subsidies and notified the Commission of the net countervailable subsidies likely to prevail were the order revoked.²

¹ See Final Results of Expedited Sunset Reviews: Brass Sheet and Strip from Brazil, France, and Korea, 64 FR 48351 (September 3, 1999); Final Results of Expedited Sunset Review: Brass Sheet and Strip from Italy, 64 FR 48348 (September 3, 1999); Final Results of Expedited Sunset Review: Brass Sheet and Strip from Germany, 64 FR 49767 (September 14, 1999); and Final Results of Full Sunset Review: Brass Sheet and Strip From Canada, 64 FR 66165 (November 24, 1999).

² See Final Results of Expedited Sunset Review: Brass Sheet and Strip from Brazil, 64 FR 48367 (September 3, 1999); Final Results of Expedited Sunset Review: Brass Sheet and Strip from France, 64 FR 48369 (September 3, 1999).

On April 18, 2000, the Commission determined, pursuant to section 751(c) of the Act, that revocation of the antidumping duty orders on brass sheet and strip from Brazil, France, Italy, Germany, Japan, and Canada, and the countervailing duty orders on brass sheet and strip from Brazil and France, would be likely to lead to continuation or recurrence of material injury to an industry in the United States within a reasonably foreseeable time (see, Brass Sheet and Strip from Brazil, Canada, France, Germany, Italy, Japan, Korea, the Netherlands, and Sweden, 65 FR 20832 (April 18, 2000) and USITC Publication 3290, Investigations Nos. 701-TA-269 & 270 (Review), and 731-TA-311-317 and 379-380 (Review) (April 2000)).

Scope

The merchandise subject to this order is brass sheet and strip, other than leaded and tinned, from Brazil, France, Italy, Germany, Japan, and Canada. The chemical composition of the subject merchandise is defined in the Copper Development Association (“C.D.A.”) 200 Series or the Unified Numbering System (“U.N.S.”) C2000 Series. This order does not cover products the chemical compositions of which are defined by other C.D.A. or U.N.S. series. In physical dimensions, the products covered by this order have a solid rectangular cross section over 0.006 inches (0.15 millimeters) through 0.188 inches (4.8 millimeters) in finished thickness or gauge, regardless of width. Coiled, wound-on-reels (traverse wound), and cut-to-length products are included. The merchandise is currently classified under Harmonized Tariff Schedule (“HTS”) item numbers 7409.21.00.50, 7409.21.00.75, 7409.21.00.90, 7409.29.00.50, 7409.29.00.75, and 7409.29.0090.

Although the HTS subheadings are provided for convenience and customs purposes, our written description of the scope of these proceedings remains dispositive.

Determination

As a result of the determinations by the Department and the Commission that revocation of these antidumping duty orders and countervailing duty orders would be likely to lead to continuation or recurrence of dumping or a countervailable subsidy and material injury to an industry in the United States, pursuant to section 751(d)(2) of the Act, the Department hereby orders the continuation of the antidumping duty orders on brass sheet and strip from Brazil, France, Italy, Germany, Japan, and Canada, and of the countervailing duty orders on brass sheet and strip from Brazil and France. The Department will instruct the U.S. Customs Service to continue to collect antidumping and countervailing duty deposits at the rates in effect at the time of entry for all imports of subject merchandise. The effective date of continuation of these orders will be the date of publication in the Federal Register of this Notice of Continuation. Pursuant to section 751(c)(2) and 751 (c)(6) of the Act, the Department intends to initiate the next five-year review of these orders not later than March 2005.

Dated: April 25, 2000.
Troy H. Cribb,
Acting Assistant Secretary for Import Administration.

[FR Doc. 00-10802 Filed 4-28-00; 8:45 am]

BILLING CODE 3510-DS-P